DEPARTMENT OF THE INTERIOR

Fish and Wildlife Service

Receipt of an Application for Renewal of an Incidental Take Permit for the Bald Eagle From the Proposed Construction and Occupancy of Residences in Gaston County, NC

AGENCY: Fish and Wildlife Service, Interior.

ACTION: Notice.

SUMMARY: Pinsto, Inc. (Permittee) has applied for renewal of an incidental take permit (ITP) from the Fish and Wildlife Service (Service) under section 10(a)(1)(B) of the Endangered Species Act of 1973, as amended (Act). Like the existing permit, the proposed renewed ITP would allow take of the bald eagle (Haliaeetus leucocephalus), a federally listed threatened species, incidental to residential development. Destruction of the nest or the tree in which the nest is located is not requested by the Permittee. Rather, the proposed incidental take may occur as a result of harm or harassment to the eagles resulting from residential construction activities in the vicinity of the nest. The Service announces availability of the ITP application and the habitat conservation plan (HCP) for public comment.

DATES: The Service must receive written comments on or before March 27, 2006.

ADDRESSES: Persons wishing to review the permit renewal application and HCP may obtain an electronic copy by contacting the Service's Southeast Regional Office, Atlanta, Georgia, at the address below. Documents will also be available for public inspection by appointment during normal business hours at the Regional Office, 1875 Century Boulevard, Suite 200, Atlanta, Georgia 30345 (Attn: Endangered Species Permits), or at the Asheville Ecological Services Field Office, 160 Zillicoa Street, Asheville, North Carolina 28801. Written data or comments concerning the permit renewal or HCP should be submitted to the Regional Office (Atlanta).

FOR FURTHER INFORMATION CONTACT: Mr. Aaron Valenta, Regional HCP Coordinator (see ADDRESSES), telephone: 404/679-4144, e-mail address: aaron_valenta@fws.gov, or Mr. Mark Cantrell, Fish and Wildlife Service Biologist, Asheville Field Office (see ADDRESSES above), telephone: 828/258-3939 (extension 227).

SUPPLEMENTARY INFORMATION: This would be a 10 year renewal of Permit TE-039993-0 for residential construction which was approved and issued by the Service on May 21, 2001. As residential development continues within the permit area, the incidental taking of bald eagle incidental to earth moving, land clearing, and subsequent human habitation of the permit area may occur, necessitating the need for renewal of the ITP. The renewal request covers the same activities covered by the HCP and existing permit. There will not be an increase in the level of take beyond that anticipated in the original permit.

The previously prepared Habitat Conservation Plan (HCP) specifies the impacts that are likely to result from the taking and the measures the Permittee would undertake to minimize and mitigate such impacts. The existing HCP satisfies all statutory issuance criteria; therefore, it is applicable to the renewal of this ITP.

Copies of the HCP and ITP application may be obtained by making a request, in writing, to the Regional Office (see ADDRESSES). This notice is provided pursuant to section 10 of the ESA and National Environmental Policy Act (NEPA) regulations at 40 CFR 1506.6. We specifically request information, views, and opinions from the public on the Federal action. Further, we specifically solicit information regarding the adequacy of the HCP as measured against our ITP issuance criteria found in 50 CFR 13.21 and 17.22.

If you wish to comment, you may submit comments by any one of several methods. Please reference “ITP for Pinsto Renewal” in all your comments or requests for the documents discussed in this notice. You may mail comments to our Regional Office (see ADDRESSES). You may also comment via the Internet to aaron_valenta@fws.gov. Please submit comments over the Internet as an ASCII file, avoiding the use of special characters and any form of encryption. Please also include your name and return mailing address in your Internet message. If you do not receive a confirmation from us that we have received your internet message, contact us directly at either telephone number listed (see FOR FURTHER INFORMATION CONTACT). Finally, you may hand-deliver comments to either Service office listed (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

As many as 75,000 pairs of nesting bald eagles may have lived in the lower 48 United States when the bird was adopted as our national symbol in 1782. It was a common nesting species along the Southeast Coast as well as along major rivers and lakes. Its population diminished rapidly due to habitat destruction, nest disturbance, illegal shooting, and, most notably, the contamination of its food sources by the pesticide DDT. Nesting populations were reduced to less than 2 percent of their former numbers by the 1960s. The bald eagle below the 40th parallel was listed as endangered in 1967 and received protection under the Act. Its populations have steadily increased due to efforts to protect the bald eagle and its habitat, population reintroduction programs, and the banning of DDT. The bald eagle was reclassified as threatened throughout the continental United States by a final rule that published in the Federal Register on July 12, 1995 (60 FR 36000). The bald eagle is now being considered for delisting and its rangewide status was discussed in detail in the proposed rule to remove the bald eagle from the Federal List of Endangered and Threatened Wildlife and Plants (July 6, 1999, 64 FR 36454).

The Permittee intends to continue development of a residential subdivision consisting of 12 lots on 13 acres. Homes have been constructed on 10 of the 12 lots to date. The biological goal of the HCP is to avoid harm or injury to the bald eagles and their nest to the maximum extent practicable and to retain the existing eagles within their occupied territory. To avoid, minimize, and mitigate impacts, the Permittee would continue to maintain an open space area of 3.087 acres, which is equivalent to the 150-foot radius buffer adjacent to and contiguous with the nest, and establish use restrictions on the lots surrounding the nest. These restrictions would limit outdoor activities within the subdivision during the nesting season. We expect these efforts would minimize potential effects of human activities on bald eagles that may use the nest. The bald eagle pair has continued to maintain a territory and has nested successfully each year during construction and occupancy of the subdivision to date.

We have evaluated the application for renewal and project area and determined that the renewal of the permit is a “low-effect” action, involving minor or negligible effects to the bald eagle and other environmental resources. As provided by the Department of Interior's Manual (516 DM 2 Appendix 1 and 516 DM 6 Appendix 1) for implementing National Environmental Policy Act (NEPA), this low-effect HCP qualifies as a categorical exclusion and does not require the preparation of an Environmental Assessment or Environmental Impact Statement. As a categorical exclusion, according to NEPA regulations (40 CFR 1508.4), low-effect HCPs do not individually or cumulatively have a significant effect on the human environment.

Under section 9 of the Act and its implementing regulations, “taking” of endangered and threatened wildlife is prohibited. However, we, under limited circumstances, may issue permits to take such wildlife if the taking is incidental to and not the purpose of otherwise lawful activities. The Permittee has prepared an HCP that includes measures for the long-term protection, management, and enhancement of the bald eagle nesting habitat as required for the ITP application as part of the proposed project.

We will evaluate whether the issuance of the section 10(a)(1)(B) ITP complies with section 7 of the Act by reviewing our previously prepared intra-Service section 7 consultation. The results of the biological opinion, in combination with the above findings, will be used in the final analysis to determine whether or not to issue the ITP.

Dated: February 15, 2006.
Cynthia K. Dohner,
Acting Regional Director.

[FR Doc. E6-2563 Filed 2-22-06; 8:45 am]

BILLING CODE 4310-55-P